DEPARTMENT OF THE TREASURY

Office of Foreign Assets Control

Notice of OFAC Sanctions Actions; Sanctions Actions Pursuant to Executive Order 13581

AGENCY: Office of Foreign Assets Control, Treasury.

ACTION: Notice.

SUMMARY: The Department of the Treasury's Office of Foreign Assets Control (OFAC) is publishing the names of entities and one aircraft whose property and interests in property have been unblocked.

DATES: OFAC's actions described in this notice were taken on October 26, 2017.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available from OFAC's Web site at http://www.treasury.gov/ofac.

Notice of OFAC Actions

On October 26, 2017, OFAC removed from the SDN List the entities and aircraft listed below, whose property and interests in property were blocked pursuant to Executive Order 13581.

Entities

1. PACNET GROUP, Canada; Chile; United Kingdom; United States; Ireland; Brazil; France; Hong Kong; India; Malta; Switzerland; South Africa [TCO].

2. ACCU-RATE CORPORATION, 2573 Carling Ave., Ottawa, ON K2B 7H7, Canada; Web site www.accu-rate.ca; Registration ID M08609375 (Canada); Company Number 4131894 (Canada) [TCO] (Linked To: PACNET SERVICES LTD.; Linked To: PACNET EUROPE; Linked To: PACNET GROUP).

3. AEROPAY LIMITED (a.k.a. POINTS EAST LIMITED), D11 Glyme Court, Oxford Office Village, Langford Lane, Oxford Oxon OX5 1LQ, United Kingdom; 70 Empress Court, Woodin's Way, Oxford, Oxfordshire OX1 1HG, United Kingdom; Company Number 05648577 (United Kingdom) [TCO] (Linked To: PACNET SERVICES LTD.; Linked To: PACNET HOLDINGS LIMITED; Linked To: PACNET GROUP).

4. CHEXX INC. (a.k.a. CHEXX AMERICAS; a.k.a. CHEXX INC. LIMITED), 4th Floor, 595 Howe St., Vancouver, BC V6C 2T5, Canada; Shannon Airport House, Shannon, Co. Clare V14E370, Ireland; Bishopbrook House, Cathedral Avenue, Wells, Somerset BA5 1FD, United Kingdom; nationality Canada; alt. nationality United Kingdom; alt. nationality Ireland; Web site www.chexxinc.com; Company Number 04424343 (United Kingdom); alt. Company Number 209294 (Ireland); alt. Company Number 471636 (Ireland) [TCO] (Linked To: PACNET SERVICES LTD.; Linked To: PACNET EUROPE; Linked To: PACNET GROUP).

5. CHEXX ITALIA SRL, Largo San Giuseppe 3/32, Genova 16121, Italy; V.A.T. Number IT02326870991; Commercial Registry Number GE 477550 (Italy); Fiscal Code 02326870991 (Italy) [TCO] (Linked To: PACNET GROUP).

6. COUNTING HOUSE SERVICES LTD. (a.k.a. UK COUNTING HOUSE LTD.), 595 Howe Street, 4th Floor, Vancouver, BC V6C 2T5, Canada; 410-900 Howe Street, Vancouver, British Columbia V672M4, Canada; 4410-900 Howe Street, Vancouver, BC V6Z 2M4, Canada; 5 Kew Road, Richmond, Surrey TW9 2PR, United Kingdom; 43 Princeton Highstown Rd., Suite D, Princeton Junction, NJ 08550, United States; Tel Aviv, Israel; Web site www.countinghouseservices.com; alt. Web site www.countinghouseltd.com; Registration ID 31000078006605 (United States); alt. Registration ID 31000078141851 (United States); alt. Registration ID M10716144 (Canada); Company Number 09835705 (United Kingdom); alt. Company Number BC0853818 (Canada) [TCO] (Linked To: PACNET SERVICES LTD.; Linked To: PACNET GROUP).

7. DEEPCOVE LABS (a.k.a. DEEPCOVE LABORATORIES LTD.), 4th Floor, 595 Howe Street, Vancouver, BC V6C 2T5, Canada; Web site www.deepcovelabs.com [TCO] (Linked To: PACNET SERVICES LTD.; Linked To: PACNET GROUP).

8. INDIAN RIVER (UK) LTD., D11 Glyme Court, Oxford Office Village, Langford Lane, Kidlington, Oxon OX5 1LQ, United Kingdom; Company Number 07927999 (United Kingdom) [TCO] (Linked To: PACNET CONNECTIONS LIMITED; Linked To: PACNET GROUP).

9. PACNET AIR (a.k.a. PACIFIC NETWORK AIR LTD.), Suite 3, 3rd Floor, Britannia House, St. Georges Street, Douglas, Isle of Man IM1 1JD, United Kingdom; Web site www.pacnetair.com; Company Number M1025900 (United Kingdom) [TCO] (Linked To: PACNET SERVICES LTD.; Linked To: PACNET GROUP).

10. PACNET BRAZIL (a.k.a. MMC CLUB; a.k.a. PACNET SERVICES DO BRASIL LTDA.; a.k.a. PACNET SERVICES DO BRASIL S S LTDA ME), Rue Adelino Fernandes 679, 1340 sala 6, Bairro Jardim Planalto, CEP 13160.000 Artur Nogueira, SP, Brazil; Rua Doutor Fernando Arens 679, Artur Nogueira, Sao Paulo 13160-000, Brazil; Identification Number 05032174000150 (Brazil) [TCO] (Linked To: PACNET SERVICES LTD.; Linked To: PACNET GROUP).

11. PACNET CHILE (a.k.a. THE PAYMENTS FACTORY CHILE LIMITADA), Av. Vicuna Mckenna 2598, Macul, Santiago de Chile, Chile [TCO] (Linked To: PACNET SERVICES LTD.; Linked To: PACNET GROUP).

12. PACNET CONNECTIONS LIMITED, Shannon Airport House, Shannon Free Zone, Co. Clare, Ireland; 4 Michael Street, Co. Limerick, Ireland; Registration ID 332576 (Ireland) [TCO] (Linked To: PACNET SERVICES LTD.; Linked To: PACNET GROUP).

13. PACNET EUROPE, Shannon Airport House, SFZ, Country Clare, Ireland; Web site www.pacnetservices.ie; alt. Web site www.pacnetservices.com [TCO] (Linked To: PACNET SERVICES LTD.; Linked To: PACNET GROUP).

14. PACNET FRANCE (a.k.a. PACNET SERVICES (FRANCE) SARL), 17 rue de Teheran, 75008 Paris, France [TCO] (Linked To: PACNET SERVICES LTD.; Linked To: PACNET GROUP).

15. PACNET HOLDINGS LIMITED (f.k.a. COUNTING HOUSE (EUROPE) LIMITED), Shannon Airport House, Shannon Free Zone, Co. Clare, Ireland; Four Michael Street, Limerick, Ireland; Registration ID EO348346 (Ireland) [TCO] (Linked To: PACNET SERVICES LTD.; Linked To: PACNET GROUP).

16. PACNET HONGKONG (a.k.a. PACNET SERVICES (HK) LTD.), 2001 Central Plaza, 18 Harbour Road, Wanchai, Hong Kong [TCO] (Linked To: PACNET SERVICES LTD.; Linked To: PACNET GROUP).

17. PACNET INDIA (a.k.a. PACNET SERVICES (INDIA) PRIVATE LIMITED), 208, Rewa Chambers, 31 New Marine Lines, Mumbai 400 020, India; National ID No. U67190MH2005PTC15766 (India) [TCO] (Linked To: PACNET SERVICES LTD.; Linked To: PACNET GROUP).

18. PACNET MALTA (a.k.a. PACNET SERVICES (MALTA) LTD.), The Dixcart Suite, Level 11, Le Meridien, St. Julians, Malta; The Dixcart Suite, Level 11, LE, 39, Main Street, Balluta Bay, St. Julians STJ1017, Malta; Company Number C 52227 (Malta) [TCO] (Linked To: PACNET SERVICES LTD.; Linked To: PACNET GROUP).

19. PACNET SERVICES (IRELAND) LIMITED, 222 Shannon Airport House, Shannon, Co. Clare, Ireland; Registration ID 452666 (Ireland) [TCO] (Linked To: PACNET HOLDINGS LIMITED; Linked To: PACNET GROUP).

20. PACNET SERVICES LTD. (a.k.a. PACIFIC NETWORK SERVICES LTD.; a.k.a. PACNET AMERICAS; a.k.a. PACNET CANADA; a.k.a. PACNET SERVICES AMERICAS LTD.), Fourth Floor, 595 Howe St, Vancouver, BC V6C 2T5, Canada; Parkshot House, 5 Kew Road, Richmond, Surrey, England TW9 2PR, United Kingdom; Registration ID M08842780 (Canada); Company Number BC0469083 (Canada); License 15128950 (Canada) [TCO] (Linked To: PACNET GROUP).

21. PACNET SUISSE (a.k.a. PACNET SERVICES (SUISSE) SA), Carrefour du Rive 1, Geneva, Switzerland; Alpenstrasse 15, 6304, Zug, Switzerland; Identification Number CHE-109.623.231 (Switzerland); alt. Identification Number CH66012280021 (Switzerland) [TCO] (Linked To: PACNET SERVICES LTD.; Linked To: PACNET GROUP).

22. PACNET UK (a.k.a. PACIFIC NETWORK SERVICES (UK) LTD.), The Old Mill, Park Road, Shepton Mallet, Somerset IK BA4 5BS, United Kingdom [TCO] (Linked To: PACNET SERVICES LTD.; Linked To: PACNET GROUP).

23. PACNET ZAR (f.k.a. GOLDEN DIVIDEND 234 (PTY) LTD.; a.k.a. PACNET SERVICES ZAR (PROPRIETARY) LTD.), 13 Wellington Road, Parktown, Johannesburg 2193, South Africa; 22 Wellington Road, Parktown, Western Cape 2193, South Africa; Private Bag X60500, Houghton, Guateng 2041, South Africa; Registration ID 200503498307 (South Africa); Tax ID No. 9871659141 (South Africa) [TCO] (Linked To: PACNET SERVICES LTD.; Linked To: PACNET GROUP).

24. THE PAYMENTS FACTORY LTD. (f.k.a. RUMENO SONCE 60 D.O.O.; a.k.a. THE PAYMENTS FACTORY D.O.O.; a.k.a. THE PAYMENTS FACTORY LLC; a.k.a. THE PAYMENTS FACTORY LLC—PERU; a.k.a. THE PAYMENTS FACTORY PERU LLC), 69 Buchanan Street, Glasgow, Scotland G1 3HL, United Kingdom; 4th Floor, 595 Howe Street, Vancouver, BC V6C 2T5, Canada; Suite 3, 3rd Floor, Britannia House, St. Georges Street, Douglas, Isle of Man IM1 1JD, United Kingdom; 1521 Concord Pike, #303, Wilmington, DE 19803, United States; Pasaje Retiro 574 of. 201, Ciudad Satelite, Santa Rosa, Provincia Callao, Peru; 2-22-7, Shibuya, Shibuya-ku, Tokyo 150-0002, Japan; Jr. Retiro No. 574, Dpto. 201, Callao 01, Peru; 3 Independent Dr., Jacksonville, FL 32202-5004, United States; Tehnoloski park 24, Ljubljana 1000, Slovenia; Shannon Airport House SFZ, County Clare V14 E370, Ireland; 89/247 Soi Ruammit Phatthana Yeak 1, Tharang Sub-District, Bang Kehn District, Bangkok Province, Thailand; Web site www.thepaymentsfactory.com; Business Registration Document # 6974988 (Slovenia); Tax ID No. 47210885 (Slovenia); Commercial Registry Number 20549092501 (Peru); Company Number SC514975 (United Kingdom) [TCO] (Linked To: PACNET GROUP).

Aircraft

1. N840PN; Aircraft Model 690c; Aircraft Operator Pacnet Air; Aircraft Manufacturer's Serial Number (MSN) 11679; Aircraft Tail Number N840PN (aircraft) [TCO] (Linked To: PACNET AIR; Linked To: PACNET GROUP).

U.S. persons are permitted to engage in all lawful transactions with the persons listed above.

Dated: October 26, 2017.
John E. Smith,
Director, Office of Foreign Assets Control.

[FR Doc. 2017-23653 Filed 10-30-17; 8:45 am]

BILLING CODE 4810-AL-P